DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Treatment Improvement Protocols (TIPs) Evaluation Project—Prospective Study—New—Since 1993, SAMHSA's Center for Substance Abuse Treatment has published 37 Treatment Improvement Protocols, which provide administrative and clinical practice guidance to the substance abuse treatment field. This is the third of three major studies and is designed to assess readers' use of TIPs and the impact of TIPs on changing substance abuse treatment practices.

The Prospective Study seeks to determine the most cost effective level of support needed by substance abuse treatment providers to implement in practice the information contained in TIPs. Specifically, this study will examine the use of TIP # 35, “Enhancing Motivation for Change in Substance Abuse Treatment,” by treatment professionals in four different areas of the country. The study will use a pretest/post-test experimental design in which treatment facilities will be randomly assigned to one of four conditions: (1) The control group (which will receive the TIP and no additional support); (2) a TIP-plus curriculum group; (3) a TIP-plus curriculum and training group; and (4) a TIP-plus curriculum, training, and ongoing support group.

Data will be collected at baseline and follow-up. Measures will include providers' awareness of TIP 35, their knowledge of the content contained in this TIP, their attitudes toward the TIP and its content, and their use of this TIP and its impact on practices within their facilities. Burden for State substance abuse (SSA) agency directors in the four areas of the country chosen will consist of information gathering by telephone. Burden for other respondents will consist of completing the pretest and post-test questionnaires. The total estimated burden for this project, to be completed in a 1-year period, is summarized below.

Respondent | Number of respondents | Responses/ respondent | Average burden/response (hrs.) | Total burden (hrs.)
SSA Directors | 6 | 1 | 1.0 | 6
Pretest:
Facility Directors | 577 | 1 | .14 | 81
Clinical Supervisors | 577 | 1 | .14 | 81
Program Counselors | 2,350 | 1 | .14 | 329
Post-test:
Facility Directors | 577 | 1 | .19 | 110
Clinical Supervisors | 577 | 1 | .19 | 110
Program Counselors | 2,350 | 1 | .19 | 447
Total | 3,510 |  |  | 1,164

Written comments and recommendations concerning the proposed information collection should be sent within 30 days of this notice to: Stuart Shapiro, Human Resources and Housing Branch, Office of Management and Budget, New Executive Office Building, Room 10235, Washington, DC 20503.

Dated: November 27, 2000.
Richard Kopanda,
Executive Officer, SAMHSA.

[FR Doc. 00-30757 Filed 12-1-00; 8:45 am]

BILLING CODE 4162-20-P